DEPARTMENT OF HEALTH AND HUMAN SERVICES

Indian Health Service

Special Diabetes Program for Indians

Announcement Type: New.

Funding Announcement Number: HHS-2024-IHS-SDPI-0001.

Assistance Listing (Catalog of Federal Domestic Assistance or CFDA) Number: 93.237.

Key Dates

Application Deadline Date: November 29, 2023.

Earliest Anticipated Start Date: January 1, 2024.

I. Funding Opportunity Description

Statutory Authority

The Indian Health Service (IHS) is accepting applications for the Special Diabetes Program for Indians (SDPI—formerly Community-Directed SDPI). This program is authorized under the Snyder Act, 25 U.S.C. 13; the Transfer Act, 42 U.S.C. 2001(a); and Section 330C of the Public Health Service Act, codified at 42 U.S.C. 254c-3. The Assistance Listings section of SAM.gov (https://sam.gov/content/home) describes this program under 93.237.

Background

Diabetes is a complex and costly chronic disease that requires tremendous long-term efforts to prevent and treat. Although diabetes is a nationwide public health problem, American Indian/Alaska Native (AI/AN) people are disproportionately affected. In 2019, 14.5 percent of AI/AN people aged 18 years or older had diagnosed diabetes, compared to 7.4 percent of non-Hispanic white people [CDC, 2021. https://www.cdc.gov/diabetes/data/statistics-report/diagnosed-diabetes.html]. In addition, AI/AN people have higher rates of diabetes-related morbidity and mortality than the general U.S. population [O'Connell, 2010 (https://diabetesjournals.org/care/article/33/7/1463/39326/Racial-Disparities-in-Health-StatusA-comparison-of); Cho, 2014 (http://ajph.aphapublications.org/doi/full/10.2105/AJPH.2014.301968)]. Strategies to address the prevention and treatment of diabetes in AI/AN communities are urgently needed.

In response to the burgeoning diabetes epidemic among AI/AN people, Congress established the SDPI through the Balanced Budget Act of 1997. SDPI is a $150 million per year program that provides awards for diabetes treatment and prevention services. The IHS administers SDPI, with programmatic oversight provided by the IHS Division of Diabetes Treatment and Prevention (DDTP).

Purpose

The purpose of this program is to provide diabetes treatment and/or prevention activities and/or services (also referred to as “activities/services”) for AI/AN communities. Recipients will implement one SDPI Diabetes Best Practice (also referred to as “Best Practice”) and report data on the Best Practice's Required Key Measure (RKM). Recipients may also implement other activities/services based on diabetes-related community needs and develop an evaluation plan. Activities/services will be aimed at reducing the risk of diabetes in at-risk individuals, providing high quality care to those with diagnosed diabetes, and/or reducing the complications of diabetes.

II. Award Information

Funding Instrument—Cooperative Agreement

Estimated Funds Available

The total funding identified for this announcement's period of performance is approximately $40 million, with the IHS awarding approximately $10 million each budget year, starting with fiscal year (FY) 2024. Individual award amounts for the first budget year are anticipated to be between $25,000 and $600,000.

The funding formula, which determines the funds available to each IHS area, has been determined through Tribal consultation. Within each area, recipient Tribes provide input on the formula, which determines the amount of funding available for each successful applicant.

• Previously awarded SDPI recipients applying to this announcement should budget for the same amount as they received in previous years. However, funding amounts may change. See the paragraph below for additional information.

• New SDPI award applicants should apply for a $25,000 base amount. However, funding amounts may change based on each specific Area's funding formula. See the paragraph above.

The funding available for competing and subsequent continuation awards issued under this announcement is subject to the availability of appropriations and budgetary priorities of the Agency. The IHS is under no obligation to make awards to applicants selected for funding under this announcement.

Anticipated Number of Awards

Approximately 7-20 awards will be issued under this program announcement.

Period of Performance

The period of performance is for 4 years.

Cooperative Agreement

Cooperative agreements awarded by the Department of Health and Human Services (HHS) are administered under the same policies as grants. However, the funding agency, IHS, is anticipated to have substantial programmatic involvement in the project during the entire period of performance. Below is a detailed description of the level of involvement required of the IHS.

Substantial Agency Involvement Description for Cooperative Agreement

A. DDTP will provide programmatic oversight, including:

1. Award Requirements

a. Create and maintain Best Practices: focused areas for improvement of diabetes prevention and treatment outcomes in communities and clinics.

b. Annual Progress Report: Create and provide instructions and template(s).

2. Data Collection and Analysis

a. IHS Diabetes Care and Outcomes Audit: Provide resources, tools, support, and training.

b. SDPI Outcomes System (SOS): Create and provide resources, tools, support, and training. Recipients will use the SOS to track and report on RKM data for their selected Best Practice.

3. Training, Communication, and Technical Assistance

a. Provide extensive SDPI award-related trainings: Topics include Application, Annual Progress Report, and others. Most trainings are provided via live webinars. Webinars will be recorded and made available on the SDPI website based on importance.

b. Provide updates and announcements via email.

c. Maintain and update the IHS SDPI website (https://www.ihs.gov/sdpi/), which provides information and resources regarding this cooperative agreement, including:

i. Best Practices.

ii. Additional resources—Documents and links from DDTP and the Division of Grants Management (DGM).

iii. New to SDPI—Information for new recipients and/or staff.

4. Diabetes Trainings and Resources

a. Provide diabetes-related live, recorded, and online education developed by the DDTP, designed for clinicians and other health professionals serving in the Indian health system.

b. Provide clinical updates and announcements via email.

c. Maintain and update the DDTP website, which provides additional resources for recipients including:

i. Clinician resources—online continuing education opportunities, diabetes treatment algorithms, IHS Standards of Care and Clinical Practice Recommendations for Type 2 Diabetes, and IHS Diabetes Care and Outcomes Audit resources.

ii. Patient education resources—free materials that can be ordered, printed, or downloaded from the online catalog.

B. The Indian Health Care Improvement Act, amended in 1987, established that each of the 12 IHS Areas should have an Area Diabetes Consultant (ADC). The ADCs are health care professionals with expertise in diabetes. They play a critical role in supporting SDPI diabetes treatment and prevention activities for their Area including:

1. Oversee SDPI awards within their specified Area to ensure compliance with programmatic Terms and Conditions.

2. Serve as a liaison between the SDPI award programs, DDTP, and DGM.

3. Provide training and resources to SDPI recipients. Some resources may be in the form of additional staff serving as ADC support.

4. Review or assign a designee to review annual continuation applications.

5. May serve as the Program Officer for the SDPI award programs in their IHS Area. The Program Officer is a Federal staff person who is responsible for managing and monitoring the progress of recipients in GrantSolutions. If the ADC is not eligible (i.e., not Federal program staff), another individual may serve as the Program Officer in a limited capacity. Program Officer's duties include: creating funding commitments and memos, providing programmatic review/approval of amendments, and assisting in uploading documents and information as Grant Notes in GrantSolutions.

Required, Optional, and Allowable Activities

Required

All recipients will need to meet the following requirements:

1. Activities/Services: Recipients must provide activities/services that:

a. meet the purpose of the SDPI, which is to provide diabetes treatment and/or prevention services and activities for AI/AN communities;

b. are targeted at reducing risk factors for diabetes and diabetes-related conditions;

c. address diabetes-related issues as identified in the recipient's application; and

d. use SDPI funds as outlined in the recipient's Budget Narrative.

2. IHS Diabetes Care and Outcomes Audit (Diabetes Audit): SDPI recipients are required to participate in the Annual Diabetes Audit (https://www.ihs.gov/diabetes/audit/). Recipients will submit data, review results, and provide a copy of their Annual Diabetes Audit Report with their Continuation Applications. Non-clinical or community-based awardees that are not able to directly participate in the Diabetes Audit, will need to obtain a copy of the Annual Diabetes Audit Report from their local facility or Area Diabetes Consultant (https://www.ihs.gov/diabetes/about-us/area-diabetes-consultants-adc/).

3. Best Practices: The Best Practices (https://www.ihs.gov/sdpi/sdpi-community-directed/diabetes-best-practices/) include the latest scientific findings and recommendations. Recipients must select one Best Practice and implement activities/services aimed at improving the associated RKM. Recipients will report on RKM data via the SOS.

4. Collaboration: Recipients must:

a. Consult with and accept guidance from DDTP, DGM, and their ADC/ADC Support/Federal Program Officer(s) and/or designated assignee(s).

b. Respond promptly to requests for information.

c. Attend required meetings and trainings.

d. Provide short presentations on their processes and successes, as requested.

e. Keep the entities (see item a. above) informed of emerging issues, developments, and challenges that may affect the recipient's ability to comply with the award Terms and Conditions and/or any requirements.

5. Project Director: Recipients must have an officially approved Project Director (approved by the Grants Management Officer in consultation with the Program Official) who has the following qualifications:

a. Relevant health or wellness education and/or experience.

b. Experience with award program management, including skills in program coordination, budgeting, reporting, and staff supervision.

c. Working knowledge of diabetes.

The Project Director should routinely update relevant SDPI award program staff with information and requirements regarding their program's activities/services.

6. Annual Progress Report: Per DGM policy, the recipient must complete an annual progress report and submit it within 90 days of the end of the budget period. The recipient will submit the report by uploading it into a Grant Note in GrantSolutions. DDTP will post instructions, template(s), and other information on the SDPI Application/Report website (https://www.ihs.gov/sdpi/sdpi-community-directed/application-reports/).

7. Required Trainings: Recipients must participate in SDPI required trainings provided by DDTP. These will primarily be live webinars, which will be recorded and posted on the SDPI website for those not able to attend. Recipients will be expected to keep track of participation (both live and recorded webinars). Information about the SDPI awardee training requirements will be provided on the SDPI Grant Training website (https://www.ihs.gov/sdpi/sdpi-community-directed/sdpi-grant-training/).

Optional

1. Optional Trainings: In addition to required training, DDTP also provides optional trainings. Recipients may participate in SDPI optional trainings depending on their need for the information that will be presented. These will primarily be live webinars, which will be recorded and posted on the SDPI website for those not able to attend. Recipients are not expected to keep track of participation, but a training tracking tool is made available and updated regularly, providing all required and optional trainings hosted by DDTP for the year. Information about the SDPI recipient training requirements will be provided on the SDPI Grant Training website (https://www.ihs.gov/sdpi/sdpi-community-directed/sdpi-grant-training/).

2. Diabetes in Indian Country Conference: DDTP occasionally hosts a conference that provides continuing education opportunities and collaboration on issues related to improving outcomes for people with diabetes and those at risk for developing diabetes. SDPI award training sessions are provided during this conference. SDPI recipient attendance is encouraged but not required.

Allowable

1. Allowable Activities/Services: There are many types of activities/services allowed under this award as long as they meet the activities/services requirement (see Required.1. above) and are within the scope of work defined in the Project Narrative. For questions, contact DDTP.

III. Eligibility Information

1. Eligibility

To be eligible for this FY 2024 funding opportunity, applicants must be one of the following as required by 42 U.S.C. 254c-3(b):

• An Indian health program operated by an Indian Tribe or Tribal organization pursuant to a contract, grant, cooperative agreement, or compact with the Indian Health Service pursuant to the Indian Self-Determination and Education Assistance Act [25 U.S.C. 5321 et seq.].

• An urban Indian health program operated by an urban Indian Organization pursuant to a grant or contract with the Indian Health Service pursuant to title V of the Indian Health Care Improvement Act [25 U.S.C. 1651 et seq.].

• The Indian Health Service. Under this announcement, only one SDPI grant will be awarded per entity. If a Tribe submits an application or already has an SDPI grant, their local IHS facility cannot apply; if the Tribe does not submit an application or does not already have an SDPI grant, the IHS facility can apply. Tribes that are awarded grant funds may sub-contract with local IHS facilities to provide specific clinical services. In this case, the Tribe would be the primary SDPI grantee and the Federal entity would have a sub-contract within the Tribe's SDPI grant.

• Not a current SDPI grant recipient.

The Division of Grants Management (DGM) will notify any applicants deemed ineligible.

2. Additional Information on Eligibility

The IHS does not fund concurrent projects. If an applicant is successful under this announcement, any subsequent applications in response to other SDPI announcements from the same applicant will not be funded. Applications on behalf of individuals (including sole proprietorships) and foreign organizations are not eligible. Applications deemed ineligible will be disqualified from competitive review and funding under this funding opportunity.

Note: Please refer to Section IV.2 (Application and Submission Information/Subsection 2, Content and Form of Application Submission) for additional proof of applicant status documents required, such as Tribal Resolutions, proof of nonprofit status, etc.

3. Cost Sharing or Matching

The IHS does not require matching funds or cost sharing for grants or cooperative agreements.

4. Other Requirements

Applications with budget requests that exceed the highest dollar amount outlined under Section II Award Information, Estimated Funds Available, or exceed the period of performance outlined under Section II Award Information, Period of Performance, are considered not responsive and will not be reviewed. The DGM will notify the applicant.

Additional Required Documentation

Tribes and Tribal Organizations

Tribal Resolution

The DGM must receive an official, signed Tribal Resolution prior to issuing a Notice of Award (NoA) to any Tribe or Tribal organization selected for funding. An applicant that is proposing a project affecting another Indian Tribe must include resolutions from all affected Tribes to be served. However, if an official signed Tribal Resolution cannot be submitted with the application prior to the application deadline date, a draft Tribal Resolution must be submitted with the application by the deadline date in order for the application to be considered complete and eligible for review. The draft Tribal Resolution is not in lieu of the required signed resolution, but is acceptable until a signed resolution is received. If an application without a signed Tribal Resolution is selected for funding, the applicant will be contacted by the Grants Management Specialist (GMS) listed in this funding announcement and given 90 days to submit an official, signed Tribal Resolution to the GMS. If the signed Tribal Resolution is not received within 90 days, the award will be forfeited.

Applicants organized with a governing structure other than a Tribal council may submit an equivalent document commensurate with their governing organization.

Proof of Nonprofit Status

Organizations claiming nonprofit status must submit a current copy of the 501(c)(3) Certificate with the application.

IV. Application and Submission Information

Grants.gov uses a Workspace model for accepting applications. The Workspace consists of several online forms and three forms in which to upload documents—Project Narrative, Budget Narrative, and Other Documents. Give your files brief descriptive names. The filenames are key in finding specific documents during the objective review and in processing awards. Upload all requested and optional documents individually, rather than combining them into a package. Creating a package creates confusion when trying to find specific documents. Such confusion can contribute to delays in processing awards, and could lead to lower scores during the objective review.

1. Obtaining Application Materials

The application package and detailed instructions for this announcement are available at https://www.Grants.gov.

Please direct questions regarding the application process to DGM@ihs.gov.

2. Content and Form Application Submission

Mandatory documents for all applications are listed below. An application is incomplete if any of the listed mandatory documents are missing. Incomplete applications will not be reviewed.

• Application forms:

1. SF-424, Application for Federal Assistance.

2. SF-424A, Budget Information—Non-Construction Programs.

3. SF-424B, Assurances—Non-Construction Programs.

4. Project Abstract Summary Form.

• Project Narrative (not to exceed 18 pages). See Section IV.2.A, Project Narrative for more information.

• Budget Justification and Narrative (not to exceed seven pages). See Section IV.2.B, Budget Narrative for instructions.

• One-page Timeframe Chart.

• 2022 and 2023 Annual Diabetes Audit reports (DRAFT report for 2023 is acceptable) or copies of Audit waivers provided by DDTP.

• Letter(s) of Support from one or more of the following:

1. Board of Directors (Urban Indian health programs).

2. Chief Executive Officer (IHS facilities).

3. Tribes served (highly recommended for IHS facilities).

• Biographical sketches for all Key Personnel.

• Key contacts form for diabetes program coordinator.

• Certification Regarding Lobbying (GG-Lobbying Form).

The documents listed here may be required. Please read this list carefully.

• Tribal Resolution(s) as described in Section III, Eligibility.

• 501(c)(3) Certificate.

• Disclosure of Lobbying Activities (SF-LLL), if applicant conducts reportable lobbying.

• Copy of current Negotiated Indirect Cost (IDC) rate agreement (required in order to receive IDC).

• Contractor/Consultant resumes or qualifications and scope of work.

• Documentation of current Office of Management and Budget (OMB) Financial Audit (if applicable).

Acceptable forms of documentation include:

1. Email confirmation from Federal Audit Clearinghouse (FAC) that audits were submitted; or

2. Face sheets from audit reports. Applicants can find these on the FAC website at https://facdissem.census.gov/.

Additional documents can be uploaded as Other Attachments in Grants.gov. These can include:

• Work plan, logic model, and/or timeline for proposed objectives.

• Position descriptions for key staff.

• Resumes of key staff that reflect current duties.

• Organizational chart.

• Map of area identifying project location(s).

• Additional documents to support narrative (for example, data tables, and key news articles).

Public Policy Requirements

All Federal public policies apply to IHS grants and cooperative agreements. Pursuant to 45 CFR 80.3(d), an individual shall not be deemed subjected to discrimination by reason of their exclusion from benefits limited by Federal law to individuals eligible for benefits and services from the IHS. See https://www.hhs.gov/grants/grants/grants-policies-regulations/index.html.

Requirements for Project and Budget Narratives and Other Programmatic Reports

A. Project Narrative

This narrative should be a separate document that is no more than 18 pages and must: (1) have consecutively numbered pages; (2) use black font 12 points or larger (applicants may use 10-point font for tables); (3) be single-spaced; and (4) be formatted to fit standard letter paper (8½ x 11 inches). DDTP provides an optional PDF template on the SDPI Application website at https://www.ihs.gov/sdpi/sdpi-community-directed/application-reports/, which applicants can use to provide the required information instead of developing their own format.

Be sure to succinctly answer all questions listed under the evaluation criteria (refer to Section V.1, Evaluation Criteria), and place all responses and required information in the correct section noted below or they will not be considered or scored. If the narrative exceeds the overall page limit, the reviewers will be directed to ignore any content beyond the page limit. The 18-page limit for the project narrative does not include the work plan, standard forms, Tribal Resolutions, budget, budget narratives, and/or other items. Page limits for each section within the project narrative are guidelines, not hard limits.

There are six parts to the Project Narrative:

Part A: Program Identifiers/Experience (Limit—2 pages)

Information to identify your program including past experience with diabetes treatment and preventions in the AI/AN Communities (include years of experience), geographic location, food resources, and relationship or role with local Indian health clinic.

Part B: Needs Assessment (Limit—3 pages)

Section 1: Diabetes Needs

Assessment—identify key diabetes-related health issues and diabetes prevalence.

Section 2: Review of Diabetes Audit Reports

Obtain and review of 2022 and 2023 Annual Diabetes Audit Reports, to provide 2-3 items/elements that need to be improved and how your program will address those items/elements.

Section 3: Challenges

Identify and describe challenges your program experiences or may face related to prevention and/or treatment of diabetes.

Part C: Program Support and Resources (Limit—3 pages)

Section 1: Leadership Support

Identify at least one organization administrator or Tribal leaders (other than your Program Coordinator) who has agreed to support your SDPI program for 2024 and describe how they will be actively involved with your program.

Section 2: Key Personnel

List all key personnel that will be involved in your program's activities/services. This may be your “Diabetes Team.” You must also separately provide a brief resume or biographical sketch for all key personnel listed.

Section 3: Partnerships and Collaborations

List current active partnerships related to your SDPI program and describe any new partnerships and collaborations that your SDPI program is planning to implement. Include information about how these partners and collaborators will contribute to the activities/services you plan to provide.

Part D: SDPI Diabetes Best Practice (Limit—3 pages)

Section 1: Best Practice Selection

Applicants must select one Best Practice that addresses one of the needs that was identified in the needs assessment (Part B). There is a list of all the Best Practices on the Best Practices website: https://www.ihs.gov/sdpi/sdpi-community-directed/diabetes-best-practices/. For each Best Practice, there is a brief statement on the importance, RKM information, and guidance for selecting a Target Group, and tools and resources.

Section 2: Best Practice Activities

Provide a list of activity(ies)/service(s) to implement that would improve the RKM of the selected Best Practice. Each activity/service should include a brief description and a timeline for implementation.

Section 3: Target Group Number and Description

Recipients will be required to report RKM data for one Target Group for their selected Best Practice. A Target Group is the largest number of patients/participants that you can realistically include in the activities/services you provided in the Best Practice activities for the budget period. The following should be considered in selecting your Target Group:

a. The size and characteristics (e.g., ages, health status, settings, locations) of the community or patient population that you are going to draw your Target Group from;

b. Intensity of the activities/services you plan to do;

c. and SDPI funding and other resources available to provide activities/services.

Part E: Activities/Services not related to selected Best Practice (Optional. Limit—5 pages)

Provide information for up to five major activities/services, supported by SDPI funds, to address needs that were identified in the needs assessment (Part B). Activities/services reported here should be based on the following criteria:

a. Use the most award funding and program time.

b. Address significant needs/challenges.

Part F: Additional Information (Limit—2 pages)

Provide additional information as specified by program office.

B. Budget Narrative (Limit—7 pages)

Provide a budget narrative that explains the amounts requested for each line item of the budget from the SF-424A (Budget Information for Non-Construction Programs) for the first year of the project. The applicant can submit with the budget narrative a more detailed spreadsheet than is provided by the SF-424A (the spreadsheet will not be considered part of the budget narrative). The budget narrative should specifically describe how each item will support the achievement of proposed objectives. Be very careful about showing how each item in the “Other” category is justified. For subsequent budget years (see Multi-Year Project Requirements in Section V.1, Application Review Information, Evaluation Criteria), the additional pages should highlight the changes from the first year or clearly indicate that there are no substantive budget changes during the period of performance. Do NOT use the budget narrative to expand the project narrative.

C. IHS Diabetes Care and Outcomes Audit

The IHS Diabetes Care and Outcomes Audit is a process to assess care and health outcomes for AI/AN people with diagnosed diabetes. IHS, Tribal, and Urban Indian health care facilities nationwide participate in this process each year by auditing medical records for their patients with diabetes. Applicants who are able to must submit copies of their local facility's 2022 and 2023 Annual Diabetes Audit reports or copies of the Audit waivers provided by DDTP.

Annual Diabetes Audit reports can be obtained in the following ways:

a. Via the WebAudit: https://www.ihs.gov/diabetes/audit/.

b. Request from their local facility.

c. Request from their ADC: https://www.ihs.gov/diabetes/about-us/area-diabetes-consultants-adc/.

For programs that received Audit waivers, these can be found in GrantSolutions (as a Grant Note).

If the applicant is unable to obtain their local facility's 2022 and 2023 Annual Diabetes Audit Reports, they must provide an explanation in their Project Narrative (Part B). For any questions, contact DDTP.

3. Submission Dates and Times

Applications must be submitted through Grants.gov by 11:59 p.m. Eastern Time on the Application Deadline Date. Any application received after the application deadline will not be accepted for review. Grants.gov will notify the applicant via email if the application is rejected.

If technical challenges arise and assistance is required with the application process, contact Grants.gov Customer Support (see contact information at https://www.Grants.gov). If problems persist, contact Mr. Paul Gettys, Deputy Director, DGM, by email at DGM@ihs.gov. Please be sure to contact Mr. Gettys at least 10 days prior to the application deadline. Please do not contact the DGM until you have received a Grants.gov tracking number. In the event you are not able to obtain a tracking number, call the DGM as soon as possible by email at DGM@ihs.gov.

The IHS will not acknowledge receipt of applications.

4. Intergovernmental Review

Executive Order 12372 requiring intergovernmental review is not applicable to this program.

5. Funding Restrictions

• Pre-award costs are allowable up to 90 days before the start date of the award provided the costs are otherwise allowable if awarded. Pre-award costs are incurred at the risk of the applicant.

• The available funds are inclusive of direct and indirect costs.

• Only one cooperative agreement will be awarded per applicant.

6. Electronic Submission Requirements

All applications must be submitted via Grants.gov. Please use the https://www.Grants.gov website to submit an application. Find the application by selecting the “Search Grants” link on the homepage. Follow the instructions for submitting an application under the Package tab. No other method of application submission is acceptable.

If you cannot submit an application through Grants.gov, you must request a waiver prior to the application due date. You must submit your waiver request by email to DGM@ihs.gov. Your waiver request must include clear justification for the need to deviate from the required application submission process. The IHS will not accept any applications submitted through any means outside of Grants.gov without an approved waiver.

If the DGM approves your waiver request, you will receive a confirmation of approval email containing submission instructions. You must include a copy of the written approval with the application submitted to the DGM. Applications that do not include a copy of the waiver approval from the DGM will not be reviewed. The Grants Management Officer of the DGM will notify the applicant via email of this decision. Applications submitted under waiver must be received by the DGM no later than 5:00 p.m. Eastern Time on the Application Deadline Date. Late applications will not be accepted for processing. Applicants that do not register for both the System for Award Management (SAM) and Grants.gov and/or fail to request timely assistance with technical issues will not be considered for a waiver to submit an application via alternative method.

Please be aware of the following:

• Please search for the application package in https://www.Grants.gov by entering the Assistance Listing number or the Funding Opportunity Number. Both numbers are located in the header of this announcement.

• If you experience technical challenges while submitting your application, please contact Grants.gov Customer Support (see contact information at https://www.Grants.gov).

• Upon contacting Grants.gov, obtain a tracking number as proof of contact. The tracking number is helpful if there are technical issues that cannot be resolved and a waiver from the agency must be obtained.

• Applicants are strongly encouraged not to wait until the deadline date to begin the application process through Grants.gov as the registration process for SAM and Grants.gov could take up to 20 working days.

• Please follow the instructions on Grants.gov to include additional documentation that may be requested by this funding announcement.

• Applicants must comply with any page limits described in this funding announcement.

• After submitting the application, you will receive an automatic acknowledgment from Grants.gov that contains a Grants.gov tracking number. The IHS will not notify you that the application has been received.

System for Award Management

Organizations that are not registered with the System for Award Management (SAM) must access the SAM online registration through the SAM home page at https://sam.gov. Organizations based in the United States (U.S.) will also need to provide an Employer Identification Number from the Internal Revenue Service that may take an additional 2-5 weeks to become active. Please see SAM.gov for details on the registration process and timeline. Registration with the SAM is free of charge but can take several weeks to process. Applicants may register online at https://sam.gov.

Unique Entity Identifier

Your SAM.gov registration now includes a Unique Entity Identifier (UEI), generated by SAM.gov, which replaces the DUNS number obtained from Dun and Bradstreet. SAM.gov registration no longer requires a DUNS number.

Check your organization's SAM.gov registration as soon as you decide to apply for this program. If your SAM.gov registration is expired, you will not be able to submit an application. It can take several weeks to renew it or resolve any issues with your registration, so do not wait.

Check your Grants.gov registration. Registration and role assignments in Grants.gov are self-serve functions. One user for your organization will have the authority to approve role assignments, and these must be approved for active users in order to ensure someone in your organization has the necessary access to submit an application.

The Federal Funding Accountability and Transparency Act of 2006, as amended (“Transparency Act”), requires all HHS recipients to report information on sub-awards. Accordingly, all IHS recipients must notify potential first-tier sub-recipients that no entity may receive a first-tier sub-award unless the entity has provided its UEI number to the prime recipient organization. This requirement ensures the use of a universal identifier to enhance the quality of information available to the public pursuant to the Transparency Act.

Additional information on implementing the Transparency Act, including the specific requirements for SAM, are available on the DGM Grants Management, Policy Topics web page at https://www.ihs.gov/dgm/policytopics/.

V. Application Review Information

Possible points assigned to each section are noted in parentheses. The project narrative and budget narrative should include only the first year of activities; information for multi-year projects should be included as a separate document. See “Multi-year Project Requirements” at the end of this section for more information. The project narrative should be written in a manner that is clear to outside reviewers unfamiliar with prior related activities of the applicant. It should be well organized, succinct, and contain all information necessary for reviewers to fully understand the project. Attachments requested in the criteria do not count toward the page limit for the narratives. Points will be assigned to each evaluation criteria adding up to a total of 100 possible points. Points are assigned as follows:

1. Evaluation Criteria

A. Introduction and Need for Assistance (15 points)

(i) Program Identifiers/Experience (Project Narrative Part A)

(1) Was program identifier information adequately provided?

(2) Did applicant provide sufficient information to establish their location and relationship to their local Indian Health Clinic?

(ii) Needs Assessment (Project Narrative Part B)

(1) Did the applicant adequately describe the key diabetes-related health issues identified by their community/leadership?

(2) Were numbers provided for applicant's local user population and people with diagnosed diabetes?

(3) Did the applicant appropriately identify Diabetes Audit items (or diabetes-related issues if Audit Reports were not provided) that need to be improved?

(4) Did the applicant adequately describe how they will address the Diabetes Audit items or diabetes-related issues that need to be improved?

(5) Did the applicant adequately describe challenges?

B. Project Objective(s), Work Plan and Approach (30 points)

(i) SDPI Diabetes Best Practice (Project Narrative Part D)

(1) Did the applicant provide an adequate description of activities/services to improve the RKM?

(2) Are the activities/services proposed appropriate for the selected Best Practice and Target Group?

(3) Do the planned activities/services appear to be reasonable given the constraints of timeframe, resources, and staff?

(ii) If Applicable: Activities/Services Not Related to Selected Best Practice (Project Narrative Part E)

(1) Do activities/services address diabetes-related issues identified in the needs assessment in Part B?

(2) Are activities/services aimed at reducing risk factors for diabetes and/or related conditions?

(3) Are activities/services adequately described?

(4) Do the planned activities/services appear to be reasonable given the constraints of timeframe, resources, and staff?

C. Program Evaluation (15 points)

(i) SDPI Diabetes Best Practice (Project Narrative Part D)

(1) Was a Best Practice selected?

(2) Was the number of patients/participants in the Target Group provided?

(3) Was the Target Group adequately described?

(4) Are the Target Group and number of patients/participants reasonable given the information the applicant provided in their needs assessment and program resources sections?

(ii) If Applicable: Activities/Services Not Related to Selected Best Practice (Project Narrative Part E)

(1) Was an appropriate target group identified for each activity/service?

(2) Did the applicant specify how improvement and reduction in risk factors will be evaluated?

D. Organizational Capabilities, Key Personnel, and Qualifications (30 points)

(i) Program Identifiers/Experience (Project Narrative Part A)

(1) Does the applicant have experience with diabetes treatment and prevention services in AI/AN communities?

(2) Is the experience provided recent? (within 5 years)

(ii) Program Support (Project Narrative Part C)

(1) Does the program propose to provide sufficient and appropriate staff to carry out planned activities?

(2) Did the applicant identify an appropriate organization administrator or Tribal leader, other than the Program Coordinator, to support their SDPI program?

(3) Did the applicant describe how this leader will be involved with the SDPI program?

(4) Did the applicant provide appropriate and adequate information about key personnel in the Project Narrative?

(5) Did the applicant provide appropriate and adequate information about partnerships and collaborations in the Project Narrative?

E. Categorical Budget and Budget Justification (10 points)

(i) Does the budget match the scope of work described in the Project Narrative?

(ii) Was each line item adequately specified and justified?

(iii) Do funding totals match between the SF-424A, budget line item, and justification?

(iv) Is the budget reasonable and realistic?

Multi-Year Project Requirements

Applications must include a brief project narrative and budget (one additional page per year) addressing the developmental plans for each additional year of the project. This attachment will not count as part of the project narrative or the budget narrative.

2. Review and Selection

Each application will be prescreened for eligibility and completeness as outlined in this funding announcement. The Review Committee (RC) will review applications that meet the eligibility criteria. The RC will review the applications for merit based on the evaluation criteria. Incomplete applications and applications that are not responsive to the administrative thresholds (budget limit, period of performance limit) will not be referred to the RC and will not be funded. The DGM will notify the applicant of this determination.

Applicants must address all program requirements and provide all required documentation.

3. Notifications of Disposition

All applicants will receive an Executive Summary Statement from the IHS DDTP within 30 days of the conclusion of the review outlining the strengths and weaknesses of their application. The summary statement will be sent to the Authorizing Official identified on the face page (SF-424) of the application.

A. Award Notices for Funded Applications

The NoA is the authorizing document for which funds are dispersed to the approved entities and reflects the amount of Federal funds awarded, the purpose of the award, the terms and conditions of the award, the effective date of the award, the budget period, and period of performance. Each entity approved for funding must have a user account in GrantSolutions in order to retrieve the NoA. Please see the Agency Contacts list in Section VII for the systems contact information.

B. Approved but Unfunded Applications

Approved applications not funded due to lack of available funds will be held for 1 year. If funding becomes available during the course of the year, the application may be reconsidered.

Note: Any correspondence other than the official NoA executed by an IHS grants management official announcing to the project director that an award has been made to their organization is not an authorization to implement their program on behalf of the IHS.

VI. Award Administration Information

1. Administrative Requirements

Awards issued under this announcement are subject to, and are administered in accordance with, the following regulations and policies:

A. The criteria as outlined in this program announcement.

B. Administrative Regulations for Awards:

• Uniform Administrative Requirements, Cost Principles, and Audit Requirements for HHS Awards currently in effect or implemented during the period of award, other Department regulations and policies in effect at the time of award, and applicable statutory provisions. At the time of publication, this includes 45 CFR part 75, at https://www.govinfo.gov/content/pkg/CFR-2022-title45-vol1/pdf/CFR-2022-title45-vol1-part75.pdf.

• If you receive an award, HHS may terminate it if any of the conditions in 2 CFR 200.340(a)(1)-(4) are met. Please review all HHS regulatory provisions for Termination at 45 CFR 75.372, at the time of this publication located at https://www.govinfo.gov/content/pkg/CFR-2022-title45-vol1/pdf/CFR-2022-title45-vol1-sec75-372.pdf.

C. Grants Policy:

• HHS Grants Policy Statement, Revised January 2007, at https://www.hhs.gov/sites/default/files/grants/grants/policies-regulations/hhsgps107.pdf.

D. Cost Principles:

• Uniform Administrative Requirements for HHS Awards, “Cost Principles,” at 45 CFR part 75 subpart E, at the time of this publication located at https://www.govinfo.gov/content/pkg/CFR-2022-title45-vol1/pdf/CFR-2022-title45-vol1-part75-subpartE.pdf.

E. Audit Requirements:

• Uniform Administrative Requirements for HHS Awards, “Audit Requirements,” at 45 CFR part 75 subpart F, at the time of this publication located at https://www.govinfo.gov/content/pkg/CFR-2022-title45-vol1/pdf/CFR-2022-title45-vol1-part75-subpartF.pdf.

F. As of August 13, 2020, 2 CFR part 200 was updated to include a prohibition on certain telecommunications and video surveillance services or equipment. This prohibition is described in 2 CFR 200.216. This will also be described in the terms and conditions of every IHS grant and cooperative agreement awarded on or after August 13, 2020.

2. Indirect Costs

This section applies to all recipients that request reimbursement of IDC in their application budget. In accordance with HHS Grants Policy Statement, Part II-27, the IHS requires applicants to obtain a current IDC rate agreement and submit it to the DGM prior to the DGM issuing an award. The rate agreement must be prepared in accordance with the applicable cost principles and guidance as provided by the cognizant agency or office. A current rate covers the applicable award activities under the current award's budget period. If the current rate agreement is not on file with the DGM at the time of award, the IDC portion of the budget will be restricted. The restrictions remain in place until the current rate agreement is provided to the DGM. Per 2 CFR 200.414(f) Indirect (F&A) costs,

any non-Federal entity (NFE) [i.e., applicant] that does not have a current negotiated rate, . . . may elect to charge a de minimis rate of 10 percent of modified total direct costs which may be used indefinitely. As described in Section 200.403, costs must be consistently charged as either indirect or direct costs, but may not be double charged or inconsistently charged as both. If chosen, this methodology once elected must be used consistently for all Federal awards until such time as the NFE chooses to negotiate for a rate, which the NFE may apply to do at any time.

Electing to charge a de minimis rate of 10 percent can be used by applicants that have received an approved negotiated indirect cost rate from HHS or another cognizant Federal agency. Applicants awaiting approval of their indirect cost proposal may request the 10 percent de minimis rate. When the applicant chooses this method, costs included in the indirect cost pool must not be charged as direct costs to the award. Available funds are inclusive of direct and appropriate indirect costs. Approved indirect funds are awarded as part of the award amount, and no additional funds will be provided.

Generally, IDC rates for IHS recipients are negotiated with the Division of Cost Allocation at https://rates.psc.gov/ or the Department of the Interior (Interior Business Center) at https://ibc.doi.gov/ICS/tribal. For questions regarding the indirect cost policy, please write to DGM@ihs.gov.

3. Reporting Requirements

The recipient must submit required reports consistent with the applicable deadlines. Failure to submit required reports within the time allowed may result in suspension or termination of an active award, withholding of additional awards for the project, or other enforcement actions such as withholding of payments or converting to the reimbursement method of payment. Continued failure to submit required reports may result in the imposition of special award provisions and/or the non-funding or non-award of other eligible projects or activities. This requirement applies whether the delinquency is attributable to the failure of the recipient organization or the individual responsible for preparation of the reports. Per DGM policy, all reports must be submitted electronically by attaching them as a “Grant Note” in GrantSolutions. Personnel responsible for submitting reports will be required to obtain a login and password for GrantSolutions. Please use the form under the Recipient User section of https://www.grantsolutions.gov/home/getting-started-request-a-user-account/. Download the Recipient User Account Request Form, fill it out completely, and submit it as described on the web page and in the form.

The reporting requirements for this program are noted below.

A. Progress Reports

Program progress reports are required annually. The progress reports are due within 30 days after the reporting period ends (specific dates will be listed in the NoA Terms and Conditions). These reports must include a brief comparison of actual accomplishments to the goals established for the period, a summary of progress to date or, if applicable, provide sound justification for the lack of progress, and other pertinent information as required. Recipient must submit a final report within 120 days of the period of performance end date. Instructions, template(s), and other information will be posted on the SDPI website at https://www.ihs.gov/sdpi/sdpi-community-directed/application-reports/.

B. Financial Reports

Federal Financial Reports are due 90 days after the end of each budget period, and a final report is due 120 days after the end of the period of performance.

Recipients are responsible and accountable for reporting accurate information on all required reports: the Progress Reports and the Federal Financial Report.

Failure to submit timely reports may result in adverse award actions blocking access to funds.

C. Data Collection and Reporting

SOS RKM Data Requirements: Data for the selected Best Practice RKM will be submitted using the SOS. Recipients will submit results for their RKM for their selected Best Practice into this system at the start (baseline) and end (final) of the budget period, with the option to submit more frequently. The system will generate SOS RKM data reports to meet the SDPI outcomes reporting requirements. These results will be stored in the system and will be accessible to program staff, as needed. Recipients will need to appoint at least one person in their program to get access to and submit data into the SOS.

i. Baseline data: Data is to be submitted into the SOS by the last business day of February each year (e.g., 2024 baseline data will be by Thursday, February 29, 2024). A report from the SOS showing baseline data submission will be due with continuation applications.

ii. Final data: Data for the prior budget period is to be submitted into the SOS by the last business day of January, each year (e.g., 2024 final data will be due by Friday, January 31, 2025). A report from the SOS showing baseline and final data submission will be due with the Annual Progress Report.

Refer to the SDPI website (https://www.ihs.gov/sdpi/) for the latest information on report templates, due dates, webinars and submission instructions.

Diabetes Care and Outcomes Audit: SDPI recipients are required to participate in the Annual Diabetes Audit (https://www.ihs.gov/diabetes/audit/). Recipients will submit data, review results, and provide a copy of their Annual Diabetes Audit Report with their annual SDPI applications. Diabetes Annual Audit data are to be submitted into the WebAudit each year around mid-March, (e.g., 2024 Audit data collecting annual data will be due approximately March 15, 2024). Non-clinical or community-based recipients, that are not able to directly participate in the Diabetes Audit, will need to obtain a copy of the Annual Diabetes Audit Report from their local facility or Area Diabetes Consultant (https://www.ihs.gov/diabetes/about-us/area-diabetes-consultants-adc/).

D. Federal Sub-award Reporting System (FSRS)

This award may be subject to the Transparency Act sub-award and executive compensation reporting requirements of 2 CFR part 170.

The Transparency Act requires the OMB to establish a single searchable database, accessible to the public, with information on financial assistance awards made by Federal agencies. The Transparency Act also includes a requirement for recipients of Federal grants to report information about first-tier sub-awards and executive compensation under Federal assistance awards.

The IHS has implemented a Term of Award into all IHS Standard Terms and Conditions, NoAs, and funding announcements regarding the FSRS reporting requirement. This IHS Term of Award is applicable to all IHS grant and cooperative agreements issued on or after October 1, 2010, with a $25,000 sub-award obligation threshold met for any specific reporting period.

For the full IHS award term implementing this requirement and additional award applicability information, visit the DGM Grants Management website at https://www.ihs.gov/dgm/policytopics/.

E. Non-Discrimination Legal Requirements for Recipients of Federal Financial Assistance (FFA)

If you receive an award, you must follow all applicable nondiscrimination laws. You agree to this when you register in SAM.gov. You must also submit an Assurance of Compliance (HHS-690). To learn more, see https://www.hhs.gov/civil-rights/for-providers/laws-regulations-guidance/laws/index.html. Pursuant to 45 CFR 80.3(d), an individual shall not be deemed subjected to discrimination by reason of their exclusion from benefits limited by Federal law to individuals eligible for benefits and services from the IHS.

F. Federal Awardee Performance and Integrity Information System (FAPIIS)

The IHS is required to review and consider any information about the applicant that is in the FAPIIS at https://www.fapiis.gov/fapiis/#/home before making any award in excess of the simplified acquisition threshold (currently $250,000) over the period of performance. An applicant may review and comment on any information about itself that a Federal awarding agency previously entered. The IHS will consider any comments by the applicant, in addition to other information in FAPIIS, in making a judgment about the applicant's integrity, business ethics, and record of performance under Federal awards when completing the review of risk posed by applicants, as described in 45 CFR 75.205.

As required by 45 CFR part 75 Appendix XII of the Uniform Guidance, NFEs are required to disclose in FAPIIS any information about criminal, civil, and administrative proceedings, and/or affirm that there is no new information to provide. This applies to NFEs that receive Federal awards (currently active grants, cooperative agreements, and procurement contracts) greater than $10 million for any period of time during the period of performance of an award/project.

Mandatory Disclosure Requirements

As required by 2 CFR part 200 of the Uniform Guidance, and the HHS implementing regulations at 45 CFR part 75, the IHS must require an NFE or an applicant for a Federal award to disclose, in a timely manner, in writing to the IHS or pass-through entity all violations of Federal criminal law involving fraud, bribery, or gratuity violations potentially affecting the Federal award.

All applicants and recipients must disclose in writing, in a timely manner, to the IHS and to the HHS Office of Inspector General all information related to violations of Federal criminal law involving fraud, bribery, or gratuity violations potentially affecting the Federal award. 45 CFR 75.113.

Disclosures must be sent in writing to:

U.S. Department of Health and Human Services Indian Health Service, Division of Grants Management, ATTN: Marsha Brookins, Director, 5600 Fishers Lane, Mail Stop: 09E70, Rockville, MD 20857, (Include “Mandatory Grant Disclosures” in subject line), Office: (301) 443-4750, Fax: (301) 594-0899, Email: DGM@ihs.gov

AND

U.S. Department of Health and Human Services, Office of Inspector General, ATTN: Mandatory Grant Disclosures, Intake Coordinator, 330 Independence Avenue SW, Cohen Building, Room 5527, Washington, DC 20201, URL: https://oig.hhs.gov/fraud/report-fraud/, (Include “Mandatory Grant Disclosures” in subject line), Fax: (202) 205-0604 (Include “Mandatory Grant Disclosures” in subject line) or Email: MandatoryGranteeDisclosures@oig.hhs.gov

Failure to make required disclosures can result in any of the remedies described in 45 CFR 75.371 Remedies for noncompliance, including suspension or debarment (see 2 CFR part 180 and 2 CFR part 376).

VII. Agency Contacts

1. Questions on the programmatic issues may be directed to:

Applicant's Area Diabetes Consultant: https://www.ihs.gov/diabetes/about-us/area-diabetes-consultants-adc/, IHS Division of Diabetes Treatment and Prevention, 5600 Fishers Lane, Mailstop: 08N34A, Rockville, MD 20857, Phone: (844) 447-3387, Fax: (301) 594-6213, Email: diabetesprogram@ihs.gov and sdpi@ihs.gov, Division of Diabetes website: https://www.ihs.gov/diabetes/ and https://www.ihs.gov/sdpi/

2. Questions on awards management and fiscal matters may be directed to:

Indian Health Service, Division of Grants Management, 5600 Fishers Lane, Mail Stop: 09E70, Rockville, MD 20857, Email: DGM@ihs.gov.

3. For technical assistance with Grants.gov, please contact the Grants.gov help desk at (800) 518-4726, or by email at support@grants.gov.

4. For technical assistance with GrantSolutions, please contact the GrantSolutions help desk at (866) 577-0771, or by email at help@grantsolutions.gov.

VIII. Other Information

The Public Health Service strongly encourages all grant, cooperative agreement, and contract recipients to provide a smoke-free workplace and promote the non-use of all tobacco products. In addition, Public Law 103-227, the Pro-Children Act of 1994, prohibits smoking in certain facilities (or in some cases, any portion of the facility) in which regular or routine education, library, day care, health care, or early childhood development services are provided to children. This is consistent with the HHS mission to protect and advance the physical and mental health of the American people.

Roselyn Tso,
Director, Indian Health Service.

[FR Doc. 2023-22057 Filed 10-3-23; 8:45 am]

BILLING CODE 4166-14-P